NATIONAL AERONAUTICS AND SPACE ADMINISTRATION

[NOTICE: 23-045]

Privacy Act of 1974; System of Records

AGENCY: National Aeronautics and Space Administration (NASA).

ACTION: Notice of a modified system of records.

SUMMARY: In accordance with the requirements of the Privacy Act of 1974, the National Aeronautics and Space Administration is providing public notice of a modification to a previously announced system of records, the NASA Education System Records, NASA 10EDUA. Modifications include minor editorial changes and updates to the Purpose and Routine Uses sections. The system of records is more fully described in the SUPPLEMENTARY INFORMATION section of this notice.

DATES: Submit comments within 30 calendar days from the date of this publication. The changes will take effect at the end of that period if no adverse comments are received.

ADDRESSES: Bill Edwards-Bodmer, Privacy Act Officer, Office of the Chief Information Officer, National Aeronautics and Space Administration Headquarters, Washington, DC 20546-0001, (757) 864-7998, NASA-PAOfficer@nasa.gov.

FOR FURTHER INFORMATION CONTACT: NASA Privacy Act Officer, Bill Edwards-Bodmer, (757) 864-7998, NASA-PAOfficer@nasa.gov.

SUPPLEMENTARY INFORMATION: This system notice includes minor editorial revisions to NASA's existing system of records notice. It also incorporates in whole, as appropriate, information formerly published separately in the Federal Register as appendix A, Location Numbers and Mailing Addresses of NASA Installations at which Records are Located, and appendix B, Standard Routine Uses—NASA, and removes references to “Appendix A” and “Appendix B.” This notice also updates Technical Safeguards and Records Access, Notification, and Contesting Procedures.

William Edwards-Bodmer,
NASA Privacy Act Officer.

SYSTEM NAME AND NUMBER:

NASA Education System Records, NASA 10EDUA.

SECURITY CLASSIFICATION:

Unclassified.

SYSTEM LOCATION:

• Mary W. Jackson NASA Headquarters, Washington, DC 20546-0001.

• Salesforce Tower, 415 Mission Street, 3rd Floor, San Francisco, CA 94105.

SYSTEM MANAGER(S):

Performance and Evaluation Manager, NASA Office of STEM Engagement, Mary W. Jackson NASA Headquarters, Washington, DC 20546.

AUTHORITY FOR MAINTENANCE OF THE SYSTEM:

• 51 U.S.C. 20112(a).

• 51 U.S.C. 20113.

PURPOSE(S) OF THE SYSTEM:

This system maintains information on NASA STEM Engagement program, projects and activities that involve NASA civil servants, contractors, grantees, and other partners, as well as members of the public who participate in NASA STEM Engagement program, projects, and activities.

CATEGORIES OF INDIVIDUALS COVERED BY THE SYSTEM:

This system maintains information on individuals engaged in the management, planning, implementation, and/or evaluation of NASA STEM Engagement projects, including former and current NASA civil servants, contractors, grantees, and partners serving as NASA STEM Engagement project managers, primary investigators, project points of contact and volunteers, and session presenters. Information is also maintained on members of the public who apply to, participate in, and/or are supported by NASA STEM Engagement projects and activities, including students (K-12 and higher education), teachers, higher education faculty, advisors, school administrators, and participants' parents/legal guardians.

CATEGORIES OF RECORDS IN THE SYSTEM:

Records in the system contain identifying information about individuals engaged in NASA STEM Engagement endeavors. Records include individuals' names, mailing addresses, school/institution names and addresses, grade levels or higher education degree information, contact information, demographic data (e.g., ethnicity, gender, race, citizenship, military status), birth dates, employment status, disabilities, medical and special needs, academic records, photographic identifiers, resumes, and response or feedback to a NASA STEM Engagement project/activity.

RECORD SOURCE CATEGORIES:

The information is obtained directly from individuals on whom it is maintained, and/or from their parents/legal guardians and individuals who serve as recommenders.

ROUTINE USES OF RECORDS MAINTAINED IN THE SYSTEM, INCLUDING CATEGORIES OF USERS AND THE PURPOSES OF SUCH USES:

Any disclosures of information in this system of records will be relevant, necessary, and compatible with the purpose for which the Agency collected the information. Under the following routine uses that are unique to this system of records, records from this system may be disclosed:

1. To an individual's next-of-kin, parent, guardian, or emergency contact in the event of a mishap involving that individual.

2. To the public about an individual's involvement with NASA STEM Engagement with the written consent of that individual.

In addition, information may be disclosed under the following NASA Standard Routine Uses:

1. Law Enforcement—When a record on its face, or in conjunction with other information, indicates a violation or potential violation of law, whether civil, criminal or regulatory in nature, and whether arising by general statute or particular program statute, or by regulation, rule, or order, disclosure may be made to the appropriate agency, whether Federal, foreign, State, local, or Tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to a NASA decision concerning the hiring or retention of an employee, the issuance of a security clearance, the letting of a contract, or the issuance of a license, grant, or other benefit.

3. Certain Disclosures to Other Federal Agencies—A record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when (a) NASA, or any component thereof; or (b) any employee of NASA in his or her official capacity; or (c) any employee of NASA in his or her individual capacity where the Department of Justice has agreed to represent the employee; or (d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Contractors—A record from this SOR may be disclosed to contractors, grantees, experts, consultants, students, volunteers, and others performing or working on a contract, service, grant, cooperative agreement, or other assignment for the Federal Government, when necessary to accomplish a NASA function related to this SOR. Individuals provided information under this routine use are subject to the same Privacy Act requirements and limitations on disclosure as are applicable to NASA employees.

8. Members of Congress—A record from this SOR may be disclosed to a Member of Congress or to a Congressional staff member in response to an inquiry of the Congressional office made at the written request of the constituent about whom the record is maintained.

9. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. National Archives and Records Administration—A record from this SOR may be disclosed as a routine use to the officers and employees of the National Archives and Records Administration (NARA) pursuant to records management inspections being conducted under the authority of 44 U.S.C. 2904 and 2906.

11. Audit—A record from this SOR may be disclosed to another agency, or organization for purpose of performing audit or oversight operations as authorized by law, but only such information as is necessary and relevant to such audit or oversight function.

POLICIES AND PRACTICES FOR STORAGE OF RECORDS:

Some of the records are on secure servers and in cloud storage; some are stored in paper format in file folders.

POLICIES AND PRACTICES FOR RETRIEVAL OF RECORDS:

Records may be retrieved from the system by any one or a combination of choices by authorized users to include last name, identification number, zip code, state, grade level, and institution.

POLICIES AND PRACTICES FOR RETENTION AND DISPOSAL OF RECORDS:

Records are maintained and destroyed in accordance with NASA Records Retention Schedules (NRRS), Schedule 1, Item 68.

ADMINISTRATIVE, TECHNICAL, AND PHYSICAL SAFEGUARDS:

Electronic records are maintained on secure NASA servers and through a cloud computing provider who manages and operates data storage as a service and are protected in accordance with all Federal standards and those established in NASA regulations at 14 CFR 1212.605. Additionally, server and data management environments employ infrastructure encryption technologies both in data transmission and at rest on servers. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or locked file cabinets. For information systems maintained by NASA partners, who collect, store and process records on behalf of NASA, NASA requires documentation and verification of commensurate safeguards in accordance with FISMA, NASA Procedural Requirements (NPR) 2810.1F and ITS-HBK-AASTEP0.v.1.0.0 through ITS-HBK-AASTEP6.v.1.0.0.

RECORD ACCESS PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

NOTIFICATION PROCEDURES:

Contact System Manager by mail at NASA Office of STEM Engagement, Mary W. Jackson NASA Headquarters, Washington, DC 20546.

EXEMPTIONS PROMULGATED FOR THE SYSTEM:

None.

HISTORY:

15-012, 80 FR 13899, pp. 13899-13900.

[FR Doc. 2023-09932 Filed 5-9-23; 8:45 am]

BILLING CODE 7510-13-P